FEDERAL MARITIME COMMISSION

Notice of Agreement(s) Filed

The Commission hereby gives notice of the filing of the following agreement(s) under the Shipping Act of 1984. Interested parties can review or obtain copies of agreements at the Washington, DC offices of the Commission, 800 North Capitol Street, NW., Room 962. Interested parties may submit comments on an agreement to the Secretary, Federal Maritime Commission, Washington, DC 20573, within 10 days of the date this notice appears in the Federal Register.

Agreement No.: 011677-004.

Title: United States Australasia Agreement.

Parties: Australia-New Zealand Direct Line, CMA CGM, S.A., Contship Containerlines, Hamburg-Sud, P&O Nedlloyd Limited, Wallenius Wilhelmsen Lines AS.

Synopsis: The proposed agreement modification would extend for two months the parties' existing trade participation program.

By Order of the Federal Maritime Commission.
Dated: February 14, 2002.
Bryant L. VanBrakle,
Secretary.

[FR Doc. 02-4080 Filed 2-19-02; 8:45 am]

BILLING CODE 6730-01-P